DEPARTMENT OF TRANSPORTATION

Federal Aviation Administration

14 CFR Part 39

[Docket No. FAA-2007-28941; Directorate Identifier 2006-NM-276-AD; Amendment 39-15386; AD 2008-04-14]

RIN 2120-AA64

Airworthiness Directives; Dassault Model Falcon 2000, Falcon 2000EX, Mystere-Falcon 900, Falcon 900EX, Fan Jet Falcon, Mystere-Falcon 50, Mystere-Falcon 20, Mystere-Falcon 200, and Falcon 10 Airplanes

AGENCY: Federal Aviation Administration (FAA), Department of Transportation (DOT).

ACTION: Final rule.

SUMMARY: The FAA is superseding an existing airworthiness directive (AD), which applies to all Dassault Model Falcon 2000, Mystere-Falcon 900, Falcon 900EX, Fan Jet Falcon, Mystere-Falcon 50, Mystere-Falcon 20, Mystere-Falcon 200, and Falcon 10 series airplanes. That AD currently requires repetitive tests and inspections to detect discrepancies of the overwing emergency exit, and corrective action if necessary. This new AD expands the applicability of the existing AD and extends the repetitive test and inspection intervals for all airplanes. This AD results from reports of incorrect operation of the overwing emergency exit due to interference between the emergency exit and the interior accommodation. We are issuing this AD to prevent failure of the overwing emergency exits to open, and consequent injury to passengers or crewmembers during an emergency evacuation.

DATES: This AD becomes effective April 1, 2008.

ADDRESSES: For service information identified in this AD, contact Dassault Falcon Jet, P.O. Box 2000, South Hackensack, New Jersey 07606.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

The FAA issued a notice of proposed rulemaking (NPRM) to amend 14 CFR part 39 to include an AD that supersedes AD 2000-12-15, amendment 39-11793 (65 FR 37480, June 15, 2000). The existing AD applies to all Dassault Model Falcon 2000, Mystere-Falcon 900, Falcon 900EX, Fan Jet Falcon, Mystere-Falcon 50, Mystere-Falcon 20, Mystere-Falcon 200, and Falcon 10 series airplanes. That NPRM was published in the Federal Register on August 16, 2007 (72 FR 45958). That NPRM proposed to continue to require repetitive tests and inspections to detect discrepancies of the overwing emergency exit, and corrective action if necessary. That NPRM also proposed to expand the applicability of the existing AD and extend the repetitive test and inspection intervals for all airplanes.

Comments

We provided the public the opportunity to participate in the development of this AD. No comments have been received on the NPRM or on the determination of the cost to the public.

Change to the Final Rule

We have changed paragraph (f) of this final rule to specify that the actions required in that paragraph must be done in accordance with a method approved by the Manager, International Branch, ANM-116, Transport Airplane Directorate, FAA; or the European Aviation Safety Agency (or its delegated agent). In addition, we have specified Chapter 5 of the applicable airplane maintenance manuals as one approved method of compliance for doing the actions required by that paragraph.

Conclusion

We have carefully reviewed the available data and determined that air safety and the public interest require adopting the AD with the change described previously. We have determined that this change will neither increase the economic burden on any operator nor increase the scope of the AD.

Costs of Compliance

This AD affects about 870 airplanes of U.S. registry.

The actions that are required by AD 2000-12-15 and retained in this AD take about 1 work hour per airplane, at an average labor rate of $80 per work hour. Based on these figures, the estimated cost of the currently required actions is $80 per airplane, per test and inspection cycle.

The new required actions take about 1 work hour per airplane, at an average labor rate of $80 per work hour. Based on these figures, the estimated cost of the new actions required by this AD for U.S. operators is $69,600, or $80 per airplane, per test and inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended].

2. The Federal Aviation Administration (FAA) amends § 39.13 by removing amendment 39-11793 (65 FR 37480, June 15, 2000) and by adding the following new airworthiness directive (AD):

2008-04-14 Dassault Aviation (Formerly Avions Marcel Dassault-Breguet Aviation (AMD/BA)): Amendment 39-15386. Docket No. FAA-2007-28941; Directorate Identifier 2006-NM-276-AD.

Effective Date

(a) This AD becomes effective April 1, 2008.

Affected ADs

(b) This AD supersedes AD 2000-12-15.

Applicability

(c) This AD applies to all Dassault Model Falcon 2000, Falcon 2000EX, Mystere-Falcon 900, Falcon 900EX, Fan Jet Falcon, Mystere-Falcon 50, Mystere-Falcon 20, Mystere-Falcon 200, and Falcon 10 airplanes, certificated in any category.

Unsafe Condition

(d) This AD results from a report of incorrect operation of the overwing emergency exit due to interference between the emergency exit and the interior accommodation. We are issuing this AD to prevent failure of the overwing emergency exits to open, and consequent injury to passengers or crewmembers during an emergency evacuation.

Compliance

(e) You are responsible for having the actions required by this AD performed within the compliance times specified, unless the actions have already been done.

Restatement of Requirements of AD 2000-12-15 With Revised Repetitive Interval

Operational Test and Inspection

(f) For Dassault Model Falcon 2000, Mystere-Falcon 900, Falcon 900EX, Fan Jet Falcon, Mystere-Falcon 50, Mystere-Falcon 20, Mystere-Falcon 200, and Falcon 10 airplanes: Within 30 days after July 20, 2000 (the effective date of AD 2000-12-15), perform an operational test and detailed inspection of the overwing emergency exit from inside the cabin to detect discrepancies (including separation, tearing, wearing, arcing, cracking) in the areas and components listed in Chapter 5 (ATA Code 52) of the applicable airplane maintenance manual (AMM). Accomplish the actions in accordance with a method approved by the Manager, International Branch, ANM-116, Transport Airplane Directorate, FAA; or the European Aviation Safety Agency (EASA) (or its delegated agent). If any discrepancy is detected during any test or inspection required by this paragraph, prior to further flight, repair in accordance with a method approved by the Manager, International Branch; or EASA (or its delegated agent). Chapter 5 (ATA Code 52) of the applicable AMM is one approved method for the actions required by this paragraph. Repeat the operational test and inspection thereafter at intervals not to exceed 24 months.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

New Requirements of This AD

Operational Test and Inspection

(g) For Dassault Model Falcon 2000EX airplanes: Within 30 days after the effective date of this AD, perform the operational test and detailed inspection of the overwing emergency exit required by paragraph (f) of this AD. If any discrepancy is detected during any test or inspection required by this paragraph, prior to further flight, repair as required by paragraph (f). Repeat the operational test and inspection at intervals not to exceed 24 months.

Alternative Methods of Compliance (AMOCs)

(h)(1) The Manager, International Branch, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Special Flight Permits

(i) Special flight permits may be issued in accordance with sections 21.197 and 21.199 of the Federal Aviation Regulations (14 CFR 21.197 and 21.199) to operate the airplane to a location where the requirements of this AD can be accomplished.

Related Information

(j) EASA airworthiness directives 2006-0147, 2006-0148, 2006-0149, and 2006-0156, all dated June 7, 2006, also address the subject of this AD.

Material Incorporated by Reference

(k) None.

Issued in Renton, Washington, on February 13, 2008.
Stephen P. Boyd,
Assistant Manager, Transport Airplane Directorate, Aircraft Certification Service.

[FR Doc. E8-3403 Filed 2-25-08; 8:45 am]

BILLING CODE 4910-13-P